DEPARTMENT OF ENERGY

Federal Energy Regulatory Commission

Notice of Filings #2

Monday, August 15, 2005.

Take notice that the Commission received the following electric rate filings:

Docket Numbers: ER00-2268-012, ER99-4124-010, ER00-3312-011, ER99-4122-013, ER03-352-003.

Applicants: Pinnacle West Capital Corporation, Arizona Public Service Company, Pinnacle West Energy Corporation, APS Energy Services Company, Inc., and Gen. West, LLC.

Description: Pinnacle West Companies submit an informational response to FERC's 6/8/05 letter.

Filed Date: 08/08/2005.

Accession Number: 20050811-0029.

Comment Date: 5 p.m. eastern time on Monday, August 29, 2005.

Docket Numbers: ER00-3251-010, EL05-132-000.

Applicants: Exelon Generation Company, LLC and AmerGen Energy Company, LLC, et al.

Description: Exelon Generation Company requests to substitute the Original Sheet 6, of an amendment to the market-based rate tariff filed 8/4/05.

Filed Date: 08/11/2005.

Accession Number: 20050815-0235.

Comment Date: 5 p.m. eastern time on Thursday, September 1, 2005.

Docket Number: ER04-841-001.

Applicants: Dominion Energy Salem Harbor, LLC and ISO New England Inc.

Description: Dominion Salem Harbor, LLC and ISO New England, Inc submits a Notice of Cancellation of the Reliability Agreement between ISO New England, Inc and USGen New England, Inc.

Filed Date: 08/11/2005.

Accession Number: 20050815-0236.

Comment Date: 5 p.m. eastern time on Thursday, September 1, 2005.

Docket Numbers ER05-1202-001.

Applicants: Blue Canyon Windpower II LLC.

Description: Blue Canyon Windpower II, LLC submits blacklined version of FERC Electric Tariff, Original Volume 1, correcting typographical errors in the Market Behavior Rules.

Filed Date: 08/10/2005.

Accession Number: 20050812-0143.

Comment Date: 5 p.m. eastern time on Wednesday, August 31, 2005.

Docket Numbers: ER05-1289-000, ER05-862-001.

Applicants: Midwest Independent Transmission System Operator, Inc.

Description: Midwest Independent Transmission System Operator, Inc. submits a Facilities Construction Agreement between PSEG Lawrenceburg Energy Co, LLC, the Midwest ISO and Cinergy Services, Inc.

Filed Date: 08/03/2005.

Accession Number: 20050805-0276.

Comment Date: 5 p.m. eastern time on Wednesday, August 24, 2005.

Docket Number: ER05-1310-000.

Applicants: Central Hudson Gas & Electric Corp.

Description: Notice of Cancellation of Rate Schedule FERC 13 filed with FERC on 9/1/54 pursuant to 18 CFR 35.15 and 131.53.

Filed Date: 08/10/2005.

Accession Number: 20050812-0141.

Comment Date: 5 p.m. eastern time on Wednesday, August 31, 2005.

Docket Number: ER05-1313-000.

Applicants: Westar Energy, Inc.

Description: Westar Energy, Inc., on behalf of Kansas Gas & Electric Company, submits a Notice of Cancellation of an Amended Interchange Agreement with the Associated Electric Cooperative, Inc, and other companies.

Filed Date: 08/11/2005.

Accession Number: 20050815-0217.

Comment Date: 5 p.m. eastern time on Thursday, September 1, 2005.

Docket Number: ER05-1314-000.

Applicants: Allegheny Power.

Description: Monongahela Power Co, The Potomac Edison Company, and West Penn Power Company all doing business as Allegheny Power submit revisions to FERC Electric Tariff, Original Volume 6.

Filed Date: 08/11/2005.

Accession Number: 20050815-0218.

Comment Date: 5 p.m. eastern time on Thursday, September 01, 2005.

Docket Number: ER05-1317-000.

Applicants: NorthWestern Energy.

Description: NorthWestern Corporation dba NorthWestern Energy submits a Notice of Cancellation of its service agreement No. 30SD under FERC Electric Tariff, Original Volume 1.

Filed Date: 08/11/2005.

Accession Number: 20050815-0221.

Comment Date: 5 p.m. eastern time on Thursday, September 1, 2005.

Docket Number: ER05-1318-000.

Applicants: Geneva Energy, LLC.

Description: Geneva Energy, LLC's petition for acceptance of initial rate schedule (FERC Electric Rate Schedule 1), waivers and granting certain blanket authority.

Filed Date: 08/11/2005.

Accession Number: 20050815-0222.

Comment Date: 5 p.m. eastern time on Thursday, September 1, 2005.

Docket Number: ER05-1320-000.

Applicants: Avista Corporation.

Description: Avista Corporation submits revisions to its Open Access Transmission Tariff, FERC Electric Tariff, Volume 8.

Filed Date: 08/12/2005.

Accession Number: 20050815-0223.

Comment Date: 5 p.m. eastern time on Friday, September 2, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E5-4562 Filed 8-22-05; 8:45 am]

BILLING CODE 6717-01-P